Title 3—

The President

Proclamation 9394 of February 12, 2016

Establishment of the Castle Mountains National Monument

By the President of the United States of America

A Proclamation

The Castle Mountains area, bounded on three sides by Mojave National Preserve (Preserve), possesses outstanding natural, cultural, and historical values representing some of the finest characteristics of the eastern Mojave Desert. It connects water flow and wildlife corridors of the Preserve, and completes the boundary of the Preserve along the California-Nevada border. Beneath the shadow of Hart Peak lie rich cultural and historic resources, including Native American archeological sites and the historic gold mining ghost town of Hart. Exposed geologic features contribute to the area's outstanding scenery.

Shaped by millions of years of geologic forces, the rugged Castle Mountains are emblematic of the Mojave landscape. The Castle Mountains rise from the broad sweep of the Lanfair Valley to a height of over 5,000 feet, presenting a picturesque skyline visible from many locations within the Preserve, while also affording spectacular views of the Preserve and beyond. Hart Peak is the prominent feature in the Castle Mountains skyline at 5,543 feet. Views from Hart Peak encompass vast wilderness and distinctive peaks, including Spirit Mountain in Nevada, a sacred site to many Native American tribes. The remoteness of the Castle Mountains area offers visitors the chance to experience the solitude of the desert and its increasingly rare natural soundscapes and dark night skies.

The Castle Mountains area provides a critical linkage for plants, animals, and water between two mountain ranges within the Preserve, the New York Mountains to the northwest and the Piute Mountains to the southeast. The area's high quality desert habitat includes some of the finest Joshua tree forest in the Mojave Desert, as well as pinyon pine and juniper forest at the upper elevations. The area's native desert grassland is a hotspot of botanical diversity. The unique plant assemblage includes 28 species of native grasses, about half of which are rare, including burrograss and false buffalograss.

Protection of this relatively intact and undisturbed habitat is important not just to the long-term survival of many plant species but also to significant wildlife populations. A herd of desert bighorn sheep lives on the steep, rocky slopes of the Castle Mountains. They and other wildlife traverse the area between the Piute Mountains and the New York Mountains. Numerous bat species live in rock crevices and mine remnants in the area. Wildlife species of special concern include the Townsend's big-eared bat, California leaf-nosed bat, Swainson's hawk, golden eagle, desert tortoise, Bendire's thrasher, and gray vireo.

With its habitat linkages, wildlife corridors, and intact ecosystems, the area offers exceptional opportunities to study plant and animal movement and connections between diverse natural systems, especially in the context of climate change. Ongoing studies of desert bighorn sheep and other plant and animal species have shown the priority of this area for scientific research. A recent study using network models of bighorn sheep genetic and demographic connectivity as tools for landscape-scale conservation found the Castle Mountains habitat to be one of the most important in the Mojave Desert. Botanists are finding new and rare plant populations, and significant new information regarding the range of species such as Mexican panicgrass, in the Castle Mountains area.

The Castle Mountains area is the only remaining portion of the 226-square mile Lanfair Valley watershed that is not part of the Preserve. Underlying much of the Lanfair Valley, including the Castle Mountains area, is a large groundwater aquifer of critical importance to the desert ecosystem. With its primary recharge zone in the New York Mountains, this aquifer feeds Piute Spring, located in the Preserve just south of the Castle Mountains area. Piute Spring is the only perennial stream and riparian corridor in the Preserve, and attracts numerous flora and fauna.

As a rare desert water source, Piute Spring attracted Native American habitation for thousands of years, followed by Euro-American exploration and settlement. Drawn to this reliable source of potable water, in 1867 the U.S. Army established Fort Piute (listed on the National Register of Historic Places) adjacent to the spring to provide protection to travelers on the Old Spanish Trail (known locally as the Mojave Road) that crossed the Mojave Desert from the Colorado River to San Bernardino, California. Maintenance of the groundwater resources and flow to Piute Spring is essential to the historical and scientific value of both the area and the Preserve.

The Castle Mountains area also contains other cultural resources that reflect a long history of prehistoric and historic human use. Prehistoric rock art and archeological sites are found throughout the area. The rock art indicates sites of significant cultural import to both the Fort Mojave and Chemehuevi Tribes, marking routes through the Castle Mountains likely traveled by both tribes. The Castle Mountains area links places to the south, like Piute Spring, to areas north, such as an obsidian collection site. Western expansion brought ranching, mining, and the railroad to the area. Some of the best-preserved segments of a wagon road that linked the Arizona Territory (Hardyville, now Bullhead City, Arizona) to settlements in southern California can be found in the Castle Mountains area. Ranchers grazed cattle in the area. By 1894, the Rock Springs Land and Cattle Company had consolidated its holdings in the eastern Mojave Desert. Much of their historic ranch lies within the Preserve, and features of this and other grazing enterprises of the era can still be seen in the Castle Mountains area. In 1907, brothers Bert and Clark Hitt found rich gold ore, staking claims that became the Oro Belle and Big Chief Mines. With James Hart, they founded the town of Hart at the base of Hart Peak. Between 1908 and 1910, the town of Hart underwent a rapid boom and bust, and by 1920, Hart had become a ghost town. Throughout this period of western expansion, railroads served the ranchers, miners, Hart residents, and others in the eastern Mojave Desert. Part of the former 23-mile Barnwell and Searchlight Railway, later incorporated into the California Eastern Railway, ran through the Castle Mountains area.

WHEREAS, section 320301 of title 54, United States Code (known as the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected;

WHEREAS, it is in the public interest to preserve and protect the historic and scientific objects in the Castle Mountains area;

WHEREAS, the protection of the Castle Mountains area's outstanding objects of historic and scientific interest would also contribute to the protection of the resources and values of the Preserve;

NOW, THEREFORE, I, BARACK OBAMA, President of the United States of America, by the authority vested in me by section 320301 of title 54, United States Code, hereby proclaim the objects identified above that are situated upon lands and interests in lands owned or controlled by the Federal Government to be the Castle Mountains National Monument (monument) and, for the purpose of protecting those objects, reserve as a part thereof all lands and interests in lands owned or controlled by the Federal Government within the boundaries described on the accompanying map, which is attached to and forms a part of this proclamation. The reserved Federal lands and interests in lands encompass approximately 20,920 acres. The boundaries described on the accompanying map are confined to the smallest area compatible with the proper care and management of the objects to be protected.

All Federal lands and interests in lands within the boundaries described on the accompanying map are hereby appropriated and withdrawn from all forms of entry, location, selection, sale, or other disposition under the public land laws, from location, entry, and patent under the mining laws, and from disposition under all laws relating to mineral and geothermal leasing.

The establishment of the monument is subject to valid existing rights. If the Federal Government acquires any lands or interests in lands not owned or controlled by the Federal Government within the boundaries described on the accompanying map, such lands and interests in lands shall be reserved as a part of the monument, and objects identified above that are situated upon those lands and interests in lands shall be part of the monument, upon acquisition of ownership or control by the Federal Government.

Nothing in this proclamation shall be deemed to enlarge or diminish the rights of any Indian tribe. The Secretary of the Interior (Secretary) shall, to the maximum extent permitted by law and in consultation with Indian tribes, ensure the protection of Indian sacred sites and cultural sites in the monument and provide access to the sites by members of Indian tribes for traditional cultural and customary uses, consistent with the American Indian Religious Freedom Act (42 U.S.C. 1996) and Executive Order 13007 of May 24, 1996 (Indian Sacred Sites).

The Secretary shall manage these lands through the National Park Service, pursuant to applicable authorities, consistent with the purposes and provisions of this proclamation. The Secretary shall prepare a management plan to implement the purposes of this proclamation, with full public involvement, within 3 years of the date of this proclamation. For the purpose of protecting the objects identified above, all motorized and mechanized vehicle use off road will be prohibited, except for emergency or authorized administrative purposes.

The Secretary shall continue to manage the Federal lands and interests in lands within the adjacent area labelled “Castle Mountain Mine Area” on the accompanying map through the Bureau of Land Management, pursuant to applicable authorities. Upon the determination of the Secretary that either (1) all mining and mining-related activities have terminated and reclamation has been completed, or (2) a period of 10 years from the date of this proclamation has elapsed during which no commercial mining activities have occurred pursuant to a Bureau of Land Management approved plan of operations, the Secretary shall, consistent with applicable legal authorities, transfer jurisdiction of the lands within the Castle Mountain Mine Area to the National Park Service and ensure that the lands are managed in a manner compatible with the proper care and management of the objects identified above.

Nothing in this proclamation shall be deemed to enlarge or diminish the jurisdiction of the State of California with respect to fish and wildlife management.

The Federal land managing agencies shall, in cooperation with appropriate State officials and subject to applicable State and Federal law, ensure the availability of water resources, including groundwater resources, needed for monument purposes.

Nothing in this proclamation shall restrict or preclude low level overflights of military aircraft, the designation of new units of special use airspace, or the use or establishment of military flight training routes over the lands reserved by this proclamation, consistent with the care and management of the objects to be protected.

Nothing in this proclamation shall be construed to alter the authority or responsibility of any party with respect to emergency response activities within the monument, including wildland fire response.

Nothing in this proclamation shall be deemed to revoke any existing withdrawal, reservation, or appropriation; however, the monument shall be the dominant reservation.

Warning is hereby given to all unauthorized persons not to appropriate, injure, destroy, or remove any feature of this monument and not to locate or settle upon any of the lands thereof.

IN WITNESS WHEREOF, I have hereunto set my hand this twelfth day of February, in the year of our Lord two thousand sixteen, and of the Independence of the United States of America the two hundred and fortieth.

Billing code 3295-F6-P

[FR Doc. 2016-03540

Filed 2-17-16;11:15 am]

Billing code 4310-10-C